DEPARTMENT OF COMMERCE

International Trade Administration

[A-427-814]

Notice of Extension of Time Limit for Final Results of Antidumping Duty Administrative Review: Stainless Steel Sheet and Strip in Coils From France

AGENCY: Import Administration, International Trade Administration, Department of Commerce

SUMMARY: The Department of Commerce (the Department) is extending the time limit for the final results of the 2002-2003 antidumping duty administrative review of the antidumping order on stainless steel sheet and strip in coils (SSSS) from France from December 4, 2004, until no later than February 2, 2005. The period of review (POR) is July 1, 2002, through June 30, 2003. This extension is made pursuant to section 751(a)(3)(A) of the Tariff Act of 1930, as amended by the Uruguay Round Agreements Act (the Act).

EFFECTIVE DATE: November 29, 2004.

FOR FURTHER INFORMATION CONTACT: Joshua Reitze or Sean Carey, AD/CVD Operations, Office VI, Import Administration, International Trade Administration, U.S. Department of Commerce, 14th Street and Constitution Avenue, NW, Washington, DC 20230, telephone: (202) 482-0666 and (202) 482-3964, respectively.

SUPPLEMENTARY INFORMATION:

Background

On July 27, 1999, the Department published the amended final determination and antidumping duty order on SSSS from France in the Federal Register. See Notice of Amended Final Determination of Sales at Less Than Fair Value and Antidumping Duty Order; Stainless Steel Sheet and Strip in Coils from France, 64 FR 40562 (July 27, 1999) (Antidumping Duty Order). On July 30, 2003, Allegheny Ludlum Corporation, AK Steel, Inc., North American Stainless, United Steelworkers of America, AFL-CIO/CLC, Butler Armco Independent Union, and Zanesville Armco Independent Organization (collectively, the Petitioners) requested that the Department conduct a review of Ugine and ALZ France S.A.'s sales or entries of merchandise subject to the Department's antidumping duty order on SSSS from France. On July 31, 2003, Ugine and ALZ France S.A. (U&A France) (the Respondent), a producer and exporter of subject merchandise, also requested that the Department conduct a review of U&A France's sales or entries of subject merchandise for the POR.

On August 22, 2003, in accordance with section 751(a) of the Act, the Department published in the Federal Register a notice of initiation of this antidumping duty administrative review for the period July 1, 2002, through June 30, 2003. See Initiation of Antidumping and Countervailing Duty Administrative Reviews and Requests for Revocation in Part, 68 FR 50750 (August 22, 2003). On February 26, 2004, the Department published in the Federal Register an extension of time limits for the preliminary results. See Extension of Time Limit of the Preliminary Results of Antidumping Duty Administrative Review, 69 FR 8936 (February 26, 2004). On August 6, 2004, the Department published the preliminary results of the administrative review. See Preliminary Results of Antidumping Duty Administrative Review: Stainless Steel Sheet and Strip in Coils from France, 69 FR 47892 (August 6, 2004).

Extension of Time Limits for Final Results

Section 751(a)(3)(A) of the Act requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

The Department recently received case briefs and rebuttal briefs from the interested parties involved in this administrative review. In the instant review, the Department has determined that it is not practicable to complete the review within the statutory time limit due to the need for analysis of certain complex issues, including the treatment of constructed export price offsets, the treatment of downstream sales and of various expenses claimed by U&A France. Therefore, in accordance with section 751(a)(3)(A) of the Act, the Department is extending the time limit for the final results to no later than February 2, 2005, which is 180 days from the date of publication of the Preliminary Results. This notice is issued and published in accordance with section 751(a)(1) of the Act and section 351.213(h)(2) of the Department's regulations.

Dated: November 22, 2004.
Barbara E. Tillman,
Acting Deputy Assistant Secretary for Import Administration.

[FR Doc. E4-3356 Filed 11-26-04; 8:45 am]

BILLING CODE 3510-DS-S